DEPARTMENT OF DEFENSE

Department of the Army; Corps of Engineers

Intent to Prepare an Environmental Impact Statement (EIS) on Drought Water Management Operations of the Central and Southern Florida (C&SF) Project During 2002

AGENCY: U.S. Army Corps of Engineers, DoD.

ACTION: Notice.

SUMMARY: There is currently a severe water shortage and regional drought within the Central and Southern Florida (C&SF) Project area in south Florida that is forecast to extend into 2002. As a result of this, the South Florida Water Management District (SFWMD), the local sponsor of the project, has requested that the Jacksonville District of the U.S. Army Corps of Engineers (Corps) authorize temporary deviation from the normal regulation schedules for the Water Conservation Areas (WCA's), set forth in the Water Control Plan for the 2001/2002 dry season to provide greater flexibility in balancing the environmental and water supply purposes of the project. The current water management operational plan for the C&SF Project includes drought contingency plans. The magnitude and severity of this water shortage and drought pose an unprecedented threat to drinking water supplies, economic and social resources and environmental resources, primarily due to the extremely low water levels in Lake Okeechobee, the normal backup water supply for the region. Based on current water levels and projections for continued low lake levels, the potential for saltwater intrusion into the Lower East Coast water supplies if backup water supplies are not available and the potential for environmental impacts in the regional system, require evaluation of the temporary deviation from the minimum floor elevations in the WCA's.

FOR FURTHER INFORMATION CONTACT: U.S. Army Corps of Engineers, P.O. Box 4970, Jacksonville, Florida 32232; Attn: Ms. Barbara Cintron, 904/232-1682.

SUPPLEMENTARY INFORMATION: 1. The action requested by the SFWMD consists of temporary deviations to the water regulation schedules for WCA 1 (ARM Loxahatchee National Wildlife Refuge), WCA 2A, and WCA 3A from November 1, 2001 through October 31, 2002.

2. Alternatives to be discussed involve sequencing the deviations for the several WCAs, and variations in the magnitude and timing of the deviations.

3. A Scoping letter will be used to invite comments on alternatives and issues from Federal, State, and local agencies, affected Indian tribes, and other interested private organizations and individuals.

4. The Draft EIS will analyze issues related to fire frequency, wading bird and snail kite nesting success, invasion of exotic vegetation, saltwater intrusion into municipal drinking water wells, the benefits of and need for municipal and industrial water-use restrictions, and economic and social impacts on agriculture and other water supply dependent business, including recreation, navigation, and tourism.

5. The alternative plans will be reviewed under provisions of appropriate laws and regulations, including the Endangered Species Act, Fish and Wildlife Coordination Act, and Farmland Protection Policy Act.

6. The Draft EIS is expected to be available for public review in the 3rd quarter CY 2001.

Dated: July 19, 2001.
George M. Strain,
Acting Chief, Planning Division.

[FR Doc. 01-18590 Filed 7-25-01; 8:45 am]

BILLING CODE 3710-AJ-M